DEPARTMENT OF AGRICULTURE

Forest Service

Notice of Proposed New Fee Site; Federal Lands Recreation Enhancement Act

AGENCY: Hoosier National Forest, Forest Service, USDA.

ACTION: Notice of proposed new fee site.

SUMMARY: The Hoosier National Forest is proposing to charge a fee at Saddle Lake Recreation Area Campground. This includes a $5 fee at Saddle Lake Campground per site per night year round. Fees are assessed based on the level of amenities and services provided, cost of operations and maintenance, and market assessment. The fee is proposed and will be determined upon further analysis and public comment. Funds from fees would be used for the continued operation and maintenance and improvements of the campground.

An analysis of the nearby state campground with similar amenities shows that the proposed fee is reasonable and typical of similar sites in the area.

DATES: Comments will be accepted through December 31, 2016. New fees would begin approximately April 2017.

ADDRESSES: Michael Chaveas, Forest Supervisor, Hoosier National Forest, 811 Constitution Ave., Bedford, IN 47121.

FOR FURTHER INFORMATION CONTACT: Nancy Myers, Outdoor Recreation Planner, 812-547-9241. Information about the proposed fee can also be found on the Hoosier National Forest Web site: http://www.fs.usda.gov/hoosier.

SUPPLEMENTARY INFORMATION: The Federal Recreation Lands Enhancement Act (Title VII, Pub. L. 108-447) directed the Secretary of Agriculture to publish a six month advance notice in the Federal Register whenever new recreation fee areas are established.

Once public involvement is complete, these new fees will be reviewed by a Recreation Resource Advisory Committee prior to a final decision and implementation. People wanting reserve these cabins would need to do so through the National Recreation Reservation Service, at www.recreation.gov or by calling 1-877-444-6777 when it becomes available.

Dated: June 8, 2016.
Michael Chaveas,
Forest Supervisor.

[FR Doc. 2016-13992 Filed 6-13-16; 8:45 am]

BILLING CODE 3410-11-P